Small Business Administration

[Disaster Declaration #12576 and #12577]

Missouri Disaster Number MO-00048

AGENCY: U.S. Small Business Administration.

ACTION: Amendment 6.

SUMMARY: This is an amendment of the Presidential declaration of a major disaster for the State of Missouri (FEMA-1980-DR), dated 05/09/2011.

Incident: Severe Storms, Tornadoes, and Flooding.

Incident Period: 04/19/2011 through 06/06/2011.

Effective Date: 06/21/2011.

Physical Loan Application Deadline Date: 07/08/2011.

EIDL Loan Application Deadline Date: 02/09/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Missouri, dated 05/09/2011 is hereby amended to include the following areas as adversely affected by the disaster:

Primary Counties: (Physical Damage and Economic Injury Loans): Carter, Lawrence, Wayne

Contiguous Counties: (Economic Injury Loans Only): Missouri, Greene.

All other information in the original declaration remains unchanged.

(Catalog of Federal Domestic Assistance Numbers 59002 and 59008)

James E. Rivera,
Associate Administrator or Disaster Assistance.

[FR Doc. 2011-16237 Filed 6-28-11; 8:45 am]

BILLING CODE 8025-01-P